DEPARTMENT OF HOMELAND SECURITY

[DHS Docket No. ICEB-2012-0004]

RIN 1653-ZA01

Extension of Employment Authorization for Haitian F-1 Nonimmigrant Students Experiencing Severe Economic Hardship as a Direct Result of the January 12, 2010 Earthquake in Haiti

AGENCY: U.S. Immigration and Customs Enforcement (ICE), DHS.

ACTION: Notice.

SUMMARY: This notice informs the public of the extension of an earlier notice, which suspended certain requirements for F-1 nonimmigrant students whose country of citizenship is Haiti and who are experiencing severe economic hardship as a direct result of the January 12, 2010 earthquake in Haiti. This notice extends the effective date of that notice.

DATES: This notice is effective October 1, 2012 and will remain in effect through July 22, 2014.

FOR FURTHER INFORMATION CONTACT: Louis Farrell, Director, Student and Exchange Visitor Program; MS 5600, U.S. Immigration and Customs Enforcement; 500 12th Street SW., Washington, DC 20536-5600; (703) 603-3400. This is not a toll-free number. Program information can be found at http://www.ice.gov/sevis/.

SUPPLEMENTARY INFORMATION:

What action is DHS taking under this notice?

The Secretary of Homeland Security is exercising her authority under 8 CFR 214.2(f)(9) to extend the suspension of the applicability of certain requirements governing on-campus and off-campus employment for F-1 nonimmigrant students whose country of citizenship is Haiti and who are experiencing severe economic hardship as a direct result of the January 12, 2010 earthquake in Haiti. See 75 FR 56120, September 15, 2010. The original notice was effective from September 15, 2010 until July 22, 2011, with a subsequent notice providing for an 18-month extension from July 22, 2011 until January 22, 2013. See 76 FR 28997, May 19, 2011. Effective with this publication, suspension of the requirements is extended for an additional 18 months, through July 22, 2014.

F-1 nonimmigrant students granted employment authorization through the notice will continue to be deemed to be engaged in a “full course of study” for the duration of their employment authorization, provided they satisfy the minimum course load requirement described in 75 FR 56120. See 8 CFR 214.2(f)(6)(i)(F).

Who is covered under this action?

This notice applies exclusively to F-1 nonimmigrant students whose country of citizenship is Haiti and who were lawfully present in the United States in F-1 nonimmigrant status on January 12, 2010 under section 101(a)(15)(F)(i) of the Immigration and Nationality Act (INA), 8 U.S.C. 1101(a)(15)(F)(i), and (1) are enrolled in an institution that is Student and Exchange Visitor Program (SEVP)-certified for enrollment of F-1 students, (2) are currently maintaining F-1 status, and (3) are experiencing severe economic hardship as a direct result of the January 12, 2010 earthquake in Haiti.

This notice applies both to undergraduate and graduate students, as well as elementary school, middle school, and high school students. The notice, however, applies differently to elementary school, middle school, and high school students (see the discussion published in 75 FR 56121 in the question, “Does this notice apply to elementary school, middle school, and high school students in F-1 status?”).

F-1 students covered by this notice who transfer to other academic institutions that are SEVP-certified for enrollment of F-1 students remain eligible for the relief provided by means of this notice.

Why is DHS taking this action?

The Department of Homeland Security (DHS) took action to provide temporary relief to F-1 nonimmigrant students whose country of citizenship is Haiti and experienced severe economic hardship as a result of the January 12, 2010 earthquake. See 75 FR 56120. It enabled these F-1 students to obtain employment authorization, work an increased number of hours while school was in session, and reduce their course load, while continuing to maintain their F-1 student status.

Haiti continues to struggle, with many people still displaced as a result of the earthquake. As Haiti rebuilds, the country continues to experience significant difficulties in recovering. F-1 nonimmigrant students whose country of citizenship is Haiti may depend on money from relatives in Haiti who are themselves continuing to recover from the earthquake.

The United States is committed to continuing to assist the people of Haiti. DHS is therefore extending this employment authorization for F-1 nonimmigrant students whose country of citizenship is Haiti and who are continuing to experience severe economic hardship as a result of the earthquake.

How do I apply for an employment authorization under the circumstances of this notice?

F-1 nonimmigrant students whose country of citizenship is Haiti who were lawfully present in the United States on January 12, 2010 and are experiencing severe economic hardship as a result of the earthquake may apply for employment authorization under the guidelines described in 75 FR 56120. This notice extends the time period during which such F-1 students may seek employment authorization due to the earthquake. It does not impose any new or additional policies or procedures beyond those listed in the original notice. All interested F-1 students should follow the instructions listed in the original notice.

Janet Napolitano,
Secretary.

[FR Doc. 2012-23825 Filed 9-28-12; 8:45 am]

BILLING CODE 9111-28-P